DEPARTMENT OF HEALTH AND HUMAN SERVICES

National Institutes of Health

National Center for Research Resources; Notice of Meetings

Pursuant to section 10(d) of the Federal Advisory Committee Act, as amended (5 U.S.C. Appendix 2), notice is hereby given to the following meetings.

The meetings will be open to the public as indicated below, with attendance imited to space available. Individuals who plan to attend and need special assistance, such as sign language interpretation or other reasonable accommodations, should notify the Contact Person listed below in advance of the meeting.

The meetings will be closed to the public in accordance with the provisions set forth in sections 552b(c)(4) and 552b(c)(6), Title 5, U.S.C., as amended. The grant applications and the discussions could disclose confidential trade secrets or commercial property such as patentable material, and personal information concerning individuals associated with the grant applications, the disclosure of which would constitute a clearly unwarranted invasion of personal privacy.

Name of Committee: National Center for Research Resources Initial Review Group, General Clinical Research Centers Review Committee.

Date: February 810, 2000.

Open: February 8, 2000, 8:00 AM to 9:30 AM.

Agenda: To discuss program planning and program accomplishments.

Place: Ramada Inn Rockville, 1775 Rockville Pike, Rockville, MD 20852.

Closed: February 8, 2000, 9:30 AM to Adjournment.

Agenda: To review and evaluate grant applications.

Place: Ramada Inn Rockville, 1775 Rockville Pike, Rockville, MD 20852.

Contact Person: Charles G. Hollingsworth, DRPH, Director, Office of Review, National Center for Research Resources, 6705 Rockledge Drive, MSC 7965, Room 6018, Bethesda, MD 208927965, 301-435-0806.

Name of Committee: National Center for Research Resources Initial Review Group, Comparative Medicine Review Committee.

Date: February 15-16, 2000.

Open: February 15, 2000, 8:00 AM to 9:30 AM.

Agenda: To discuss program planning and program accomplishments.

Place: The Bethesda Ramada, Ambassador One, 8400 Wisconsin Avenue, Bethesda, MD 20814.

Closed: February 15, 2000, 9:30 AM to Adjournment.

Agenda: To review and evaluate grant applications.

Place: The Bethesda Ramada, Ambassador One, 8400 Wisconsin Avenue, Bethesda, MD 20814.

Contact Person: John D. Harding, Phd, Scientific Review Administrator, Office of Review, National Center for Research Resources, 6705 Rockledge Drive, MSC 7965, Room 6018, Bethesda, MD 208927965, (301) 435-0810.QP=‘oz’

Name of Committee: Scientific and Technical Review Board on Biomedical and Behavioral Research Facilities.

Date: February 16, 2000.

Open: 8:00 AM to 9:00 AM.

Agenda: To discuss program planning and program accomplishments.

Place: Hyatt Regency Hotel, One Bethesda Metro Center, Bethesda, MD 20814.

Closed: 9:00 AM to Adjournment.

Agenda: To review and evaluate grant applications.

Place: Hyatt Regency Hotel, One Bethesda Metro Center, Bethesda, MD 20814.

Contact Person: D.G. Patel, PhD, Scientific Review Administrator, Office of Review, National Center for Research Resources, 6705 Rockledge Drive, MSC 7965, Room 6018, 301-435-0824.

(Catalogue of Federal Domestic Assistance Program Nos. 93.306, Comparative Medicine, 93.306; 93.333, Clinical Research, 93.333; 93.371, Biomedical Technology; 93.389, Research Infrastructure, National Institutes of Health, HHS)

Dated: January 10, 2000.
LaVerne Y. Stringfield,
Director, Office of Federal Advisory Committee Policy.

[FR Doc. 00-1133 Filed 1-18-00; 8:45 am]

BILLING CODE 4140-01-M